SECURITIES AND EXCHANGE COMMISSION

[Release No. 34-68314; File No. SR-ISE-2012-75]

Self-Regulatory Organizations; International Securities Exchange, LLC; Notice of Filing and Immediate Effectiveness of Proposed Rule Change To Make Available a New Market Data Offering

November 28, 2012.

Correction

In notice document 2012-29218 appearing on pages 71850 through 71852 in the issue of Tuesday, December 4, 2012, make the following correction:

On page 71850, in the first column, the release number should read as set forth above.

[FR Doc. C1-2012-29218 Filed 12-17-12; 8:45 am]

BILLING CODE 1501-05-P